OFFICE OF THE UNITED STATES TRADE REPRESENTATIVE

Notice of Meeting of the Industry Sector Advisory Committee on Services (ISAC-13)

AGENCY: Office of the United States Trade Representative.

ACTION: Notice of a partially opened meeting.

SUMMARY: The Industry Sector Advisory Committee on Services (ISAC-13) will hold a meeting on July 30, 2002, from 1:30 p.m. to 4:30 p.m. The meeting will be opened to the public from 1:30 p.m. to 2:10 p.m. The meeting will be closed to the public from 2:10 p.m. to 4:30 p.m.

DATES: The meeting is scheduled for July 30, 2002, unless otherwise notified.

ADDRESSES: The meeting will be held in Room 6087B of the Department of Commerce located on 14th Street between Pennsylvania and Constitution Avenues, NW., Washington, DC.

FOR FURTHER INFORMATION CONTACT: Jennifer Moll, at (202) 482-1316, Department of Commerce, 14th Street and Constitution Avenue, NW., Washington, DC 20230 or myself on (202) 395-6120.

SUPPLEMENTARY INFORMATION: During the opened portion of the meeting the following agenda items will be discussed.

• Report on World Trade Organization (WTO) General Agreement on Trade in Services (GATS) Negotiations.

• Report from International Trade Commission representatives regarding their publication, Recent Trends in U.S. Services Trade.

Elizabeth A. Gianini,
Assistant U.S. Trade Representative for Intergovernmental Affairs and Public Liaison (A).

[FR Doc. 02-18871 Filed 7-24-02; 8:45 am]

BILLING CODE 3190-01-M